DEPARTMENT OF ENERGY

Federal Energy Regulatory Commission

[Project Nos. 14136-000; 14139-000]

Lock+™ Hydro Friends Fund XXXV Riverbank Hydro No. 4, LLC; Notice of Competing Preliminary Permit Applications Accepted for Filing and Soliciting Comments, Motions To Intervene, and Competing Applications

On April 1, 2011, Lock+™ Hydro Friends Fund XXXV (Hydro Friends) and Riverbank Hydro No. 4, LLC (Riverbank Hydro) filed preliminary permit applications, pursuant to section 4(f) of the Federal Power Act, proposing to study the feasibility of a hydropower project at the U.S. Army Corps of Engineers' (Corps) Lock and Dam No. 5, located on the Mississippi River near Minnesota City, Minnesota, in Winona County, Minnesota, and Buffalo County, Wisconsin. The sole purpose of a preliminary permit, if issued, is to grant the permit holder priority to file a license application during the permit term. A preliminary permit does not authorize the permit holder to perform any land-disturbing activities or otherwise enter upon lands or waters owned by others without the owners' express permission.

Hydro Friends' proposed Project Oscar Project No. 14136-000 would consist of: (1) A 109-foot-wide, 40-foot-high lock frame module placed in a new gate constructed in the downstream portion of an inactive, incomplete auxiliary lock of the Lock and Dam No. 5; (2) a 109-foot-wide, 40-foot-high lock frame module placed east of the movable section of the Lock and Dam No. 5 in an existing levee of the east abutment; (3) a new switchyard and control room located on the eastern side of the dam; and (4) a new 3-mile-long, 115-kilovolt transmission line extending from the switchyard to a nearby distribution line which would feed the project power to the grid. Each lock frame module would consist of ten 7-foot-diameter hydropower turbines each rated at 650 kilowatts (kW) based on a design head of 9 feet with a total rated capacity per module of 6.5 megawatts (MW) resulting in a total project installed capacity of 13 MW. Each module would be equipped with fish/debris screens located upstream of each module and control door assemblies that can open and close off flow to the units when needed. The project's average annual generation would be 79,770 megawatt-hours (MWh), and the project would operate run-of-release.

Applicant Contact: Mr. Wayne F. Krouse, Managing Partner, Lock+™ Hydro Friends Fund XXXV, 5090 Richmond Avenue #390, Houston, TX 77056, phone (877) 556-6566, extension 709.

Riverbank Hydro's Mississippi 5 Hydroelectric Project No. 14139-000 would consist of: (1) A forebay and intake structure equipped with a trashrack constructed upstream of the powerhouse on the east section of the dam in the existing levee of the east abutment; (2) a reinforced concrete powerhouse containing five turbine-generators each with a rating of 4,000 kW for a total project installed capacity of 20 MW; (3) a tailrace directing river flows back into the Mississippi River; and (4) a 13.1-mile-long, 69-kV transmission line feeding the project power to an existing transmission line. The intake, powerhouse, and tailrace dimensions would be determined during the permit period. The project's average annual generation would be 87,000 MWh at a head range of 5.0 to 9.5 feet, and the project would operate run-of-release.

Applicant Contact: Kuo-Bao Tong, Riverbank Power Corporation, Royal Bank Plaza, South Tower, P.O. Box 166, 200 Bay Street, Suite 3230, Toronto, ON, Canada M5J 2J4, phone (416) 861-0092, extension 154.

FERC Contact: Sergiu Serban, sergiu.serban@ferc.gov, (202) 502-6211.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about each project, including a copy of the applications, can be viewed or printed on the “eLibrary” link of the Commission's Web site at http://www.ferc.gov/docs-filing/elibrary.asp. Enter the docket number (P-14136-000, or P-14139-000) in the docket number field to access the document. For assistance, contact FERC Online Support.

Dated: August 3, 2011.
Kimberly D. Bose,
Secretary.

[FR Doc. 2011-20155 Filed 8-8-11; 8:45 am]

BILLING CODE 6717-01-P